DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation of the Policy Academies on Chronic Homelessness—New

The Substance Abuse and Mental Health Services Administration's (SAMHSA), Center for Mental Health Services (CMHS) and the Health Resources and Services Administration (HRSA) will fund an evaluation of the Policy Academies on Chronic Homelessness held in 2002, 2003, and 2004. These Policy Academies were sponsored by the U.S. Department of Human Services (HHS) in partnership with the U.S. Department of Veterans Affairs, U.S. Department of Labor and the U.S. Department of Housing and Urban Development. The Policy Academies were 3-4 day meetings designed to help teams of State, Territory and local policymakers develop Action Plans intended to improve access to mainstream services for people who are homeless.

This evaluation will assess the effectiveness of the Policy Academies in helping States and Territories address the problem of chronic homelessness. This evaluation has been conceptualized in two parts. The process evaluation will focus on the activities related to conducting the Policy Academies. The process evaluation interviews will focus on: (1) How the Policy Academy concept was developed, (2) how the Federal Partners implemented the Policy Academies, (3) what factors influenced the effectiveness of each step of the intervention (i.e., pre-Academy site visits, Policy Academy meetings, and post-Academy technical assistance), (4) what changes in the Policy Academy process occurred over time, (5) what challenges/barriers Federal Partners faced in the development and implementation of the Policy Academies, and (6) how future Policy Academies could be improved to better meet the needs of States and Territories. The process evaluation will include all 45 States and Territories that participated in one of the Policy Academies on Chronic Homelessness, as well as the three Pacific Territories (American Samoa, Commonwealth of the Northern Marianas Islands, and Guam,) that participated in a special series of Policy Academies on Homelessness held in American Samoa and Guam.

The second part, the outcome evaluation, will assess how successful State, Territory, and local policymakers have been in implementing the Action Plans that were developed at the Policy Academies. The outcome evaluation interviews will focus on: (1) How States and Territories put together their Policy Academy teams, (2) the content and overall quality of the Action Plans these teams developed, (3) to what extent States and Territories have been able to increase access to coordinated housing and mainstream services for persons experiencing homelessness, (4) what challenges/barriers States and Territories faced in trying to achieve short- and long-term goals, and (5) to what extent relationships among the Governor's office, legislators, key program administrators, and public and private stakeholders were created or strengthened. In order to reduce burden on informants, the outcome evaluation will focus on a sample of States and Territories (the 19 States and Territories participating in the last two Policy Academies on Chronic Homelessness and the three Pacific Territories).

Data collection will be conducted over a 12-month period and will include both telephone interviews and site visits. Data collection instruments are semi-structured and will be administered by trained evaluation staff. Telephone interviews will be conducted with state team leaders and other team members. During site visits, in-person interviews will be conducted with team leaders, other team members, and other stakeholders. Both telephone and in-person interview protocols have been adapted to reflect the slightly different Policy Academy process used in the Pacific Territories and to reflect the different needs, funding sources, resources, and service systems in these territories.

The estimated annual response burden to collect this information is as follows:

Instrument | Number of respondents | Responses/ respondent | Burden/ response (hrs) | Annual burden (hrs)
Telephone Interviews
(Process Evaluation)
Team Leader Interview | 48 | 1 | 2 | 96
Other Team Member Interview | 96 | 1 | 1.5 | 144
In-Person Interviews
(Outcome Evaluation)
Team Leader Interview | 22 | 1 | 2.25 | 49.5
Other Team Member Interview | 154 | 1 | 1.75 | 269.5
Other Stakeholder Interview | 110 | 1 | 1.5 | 165
Total Annual | 430 |  |  | 724

Written comments and recommendations concerning the proposed information collection should be sent by April 17, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 9, 2006.
Anna Marsh,
Director, Office of Program Services.

[FR Doc. E6-3799 Filed 3-15-06; 8:45 am]

BILLING CODE 4162-20-P